DEPARTMENT OF COMMERCE

International Trade Administration

[A-570-506]

Notice of Rescission of Antidumping Duty Administrative Review: Porcelain-on-Steel Cooking Ware From the People's Republic of China

AGENCY: Import Administration, International Trade Administration, Department of Commerce.

ACTION: Notice of Rescission of Antidumping Duty Administrative Review.

SUMMARY: On January 22, 2003, the Department of Commerce (the Department) initiated an administrative review of the antidumping duty order on porcelain-on-steel (POS) cooking ware from the People's Republic of China (PRC) for one manufacturer/exporter of the subject merchandise, Clover Enamelware Enterprise, Ltd. of China (Clover), and its Hong Kong affiliated reseller, Lucky Enamelware Factory Ltd. (Lucky), collectively referred to as Lucky/Clover, for the period December 1, 2001 through November 30, 2002. This review has now been rescinded due to timely withdrawal of requests for an administrative review from both Columbian Home Products, LLC, a domestic interested party,¹ and the respondent.²

¹ Pursuant to 771(9)(A) of the Act, Columbian Home Products, LLC is a domestic interested party in this case because they are a domestic manufacturer of subject merchandise.

² The respondent in this case is Clover Enamelware Enterprises Ltd. (Clover) and Lucky Enamelware Factory Ltd. (Lucky), and the U.S. importer, CGS International, Inc., collectively referred to as Lucky/Clover.

EFFECTIVE DATE: April 22, 2003.

FOR FURTHER INFORMATION CONTACT: George McMahon, Office of AD/CVD Enforcement IV, Group II, Import Administration, International Trade Administration, U.S. Department of Commerce, 14th Street and Constitution Avenue, NW, Washington, DC 20230;telephone (202) 482-1167.

SUPPLEMENTARY INFORMATION:

Background

On December 31, 2002, Columbian Home Products, LLC, a domestic interested party, requested that the Department conduct an administrative review of Lucky/Clover, manufacturer and/or reseller of the subject merchandise in the PRC for the period, December 1, 2001 through November 30, 2002. Respondent also requested an administrative review on January 2, 2003. On January 22, 2003, the Department published in the Federal Register a notice of initiation of an administrative review with respect to Lucky/Clover for the period December 1, 2001 through November 30, 2002. See Initiation of Antidumping and Countervailing Duty Administrative Reviews, 68 FR 3009 (January 22, 2003). On February 19, 2003, respondent withdrew its request for an administrative review, and also stated that in the event that this review is rescinded, they also withdraw their request that the Department revoke this antidumping order with respect to Lucky/Clover. On February 24, 2003, the domestic interested party also withdrew its request for an administrative review.

Scope of the Review

Imports covered by this review are shipments of POS cooking ware, including tea kettles, which do not have self-contained electric heating elements. All of the foregoing are constructed of steel and are enameled or glazed with vitreous glasses.

As a result of the Department's prior scope exclusion determinations, the following products are excluded from the scope of the order of POS cooking ware: barbeque grill basket, Delux Grill Topper, Porcelain Coated Grill Topper, and Wok Topper.

The merchandise is currently classifiable under item 7323.94.00 of the Harmonized Tariff Schedule of the United States (HTSUS). Although the HTSUS subheading is provided for convenience and Customs purposes, the written description of the merchandise subject to the order is dispositive.

Rescission of Review

Within 90 days of the January 22, 2003 notice of initiation, the domestic interested party and respondent withdrew their requests for the above referenced administrative review. See Letter from respondent to the Department dated February 19, 2003, and Letter from domestic interested party to the Department dated February 24, 2003, on file in the Central Records unit, Room B-099, Main Building of the Department of Commerce.

In accordance with the Department's regulations, and consistent with its practice, the Department hereby rescinds the administrative review of POS cooking ware from the PRC for the period December 1, 2001 to November 30, 2002. See 19 CFR section 351.213(d)(1), which states in pertinent part, “The Secretary will rescind an administrative review under this section, in whole or in part, if a party that requested a review withdraws the request within 90 days of the date of publication of notice of initiation of the requested review.”

This notice is in accordance with section 751(a)(1) of the Tariff Act of 1930, as amended, and section 351.213(d) of the Department's regulations.

Dated: April 15, 2003.
Holly A. Kuga,
Acting Deputy Assistant Secretary Import Administration, Group II.

[FR Doc. 03-9934 Filed 4-21-02; 8:45 am]

BILLING CODE 3510-DS-S